DEPARTMENT OF HEALTH AND HUMAN SERVICES

National Institutes of Health

Proposed Collection; Comment Request; Process Evaluation of the NIH's Roadmap Interdisciplinary Research Work Group Initiatives

SUMMARY: In compliance with the requirements of section 3506(c)(2)(A) of the Paperwork Reduction Act of 1995, for opportunity for public comment on proposed data collection projects, the Office of the Director, the National Institutes of Health (NIH), will publish periodic summaries of proposed projects to be submitted to the Office of Management and Budget (OMB) for review and approval.

Proposed Collection: The National Institute of Dental and Craniofacial Research of the National Institutes of Heath requests a three-year clearance for the “Process Evaluation of the NIH Roadmap Interdisciplinary Research Work Group Initiatives,” a new collection. This study will be used to determine whether the NIH's Interdisciplinary Research Work Group initiatives have been, and are being, conducted as planned, whether the expected outputs are being produced, and how the activities and processes associated with the initiatives can be improved. Information collected during the evaluation will be used to assess whether and how these initiatives differed from existing initiatives to determine whether these unique initiatives or mechanisms are necessary, to make decisions about whether to continue and/or to modify the programs, and to make decisions about structural or procedural changes within NIH that may be necessary to support cross-cutting interdisciplinary programs. The frequency of response is once for most respondents, and twice for a limited group. The affected public includes a limited number of individuals; Type of respondents: principal investigators, other grant investigators, and Initiative trainees. The annual reporting burden is as follows: Estimated number of respondents: 450; Estimated number of responses per respondent: PIs, 2; Other Investigators, 1; Trainees, 1; Average burden hours per response: 30 minutes; and Estimated total annual burden hours requested: 250 hours. The total annualized cost to respondents (calculated as the number of respondents * frequency of response * average time per response * approximate hourly wage rate) is estimated to be $4,565.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Sue Hamann, Ph.D., Science Evaluation Officer, Office of Science Policy Officer and Analysis, NIDCRD, NIH. You may reach Dr. Hamann by telephone on 301-594-4849 (this is not a toll-free number), or you may e-mail your request to Dr. Hamann at Sue.Hamann@nih.hhs.gov.

Comments Due Date: Comments regarding this information collection are best assured of having their full effect if received within 60 days of the date of this publication.

Dated: December 22, 2009.
Sue Hamann,
Science Evaluation Officer, OSPA, NIDCR, National Institutes of Health.

[FR Doc. E9-31234 Filed 1-4-10; 8:45 am]

BILLING CODE 4140-01-P